DEPARTMENT OF HEALTH AND HUMAN SERVICES

Centers for Disease Control and Prevention

[60Day-26-0770; Docket No. CDC-2025-0753]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other federal agencies the opportunity to comment on a continuing information collection, as required by the Paperwork Reduction Act of 1995. This notice invites comment on a proposed information collection project titled National HIV Behavioral Surveillance System (NHBS). CDC is requesting approval for a Revision to the previously approved project to continue collecting standardized HIV-related behavioral data from persons at risk for HIV from 21 Metropolitan Statistical Areas (MSAs) systematically selected throughout the United States.

DATES: CDC must receive written comments on or before January 20, 2026.

ADDRESSES: You may submit comments, identified by Docket No. CDC-2025-0753 by either of the following methods:

• Federal eRulemaking Portal: www.regulations.gov. Follow the instructions for submitting comments.

• Mail: Jeffrey M. Zirger, Information Collection Review Office, Centers for Disease Control and Prevention, 1600 Clifton Road NE, MS H21-8, Atlanta, Georgia 30329.

Instructions: All submissions received must include the agency name and Docket Number. CDC will post, without change, all relevant comments to www.regulations.gov.

Please note: Submit all comments through the Federal eRulemaking portal (www.regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS H21-8, Atlanta, Georgia 30329; Telephone: 404-639-7570; Email: omb@cdc.gov.

SUPPLEMENTARY INFORMATION: Under the Paperwork Reduction Act of 1995 (PRA) (44 U.S.C. 3501-3520), federal agencies must obtain approval from the Office of Management and Budget (OMB) for each collection of information they conduct or sponsor. In addition, the PRA also requires federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected;

4. Minimize the burden of the collection of information on those who are to respond, including through the use of appropriate automated, electronic, mechanical, or other technological collection techniques or other forms of information technology, e.g., permitting electronic submissions of responses; and

5. Assess information collection costs.

Proposed Project

National HIV Behavioral Surveillance System (NHBS) (OMB Control No. 0920-0770, Exp. 4/30/2026)—Revision—National Center for HIV, Viral Hepatitis, STD, and TB Prevention (NCHHSTP), Centers for Disease Control and Prevention (CDC).

Background and Brief Description

The purpose of this data collection is to monitor behaviors of persons at high risk for infection related to Human Immunodeficiency Virus (HIV) transmission and prevention in the United States. The primary objectives of the NHBS are to obtain data from samples of persons at risk to: (a) describe the prevalence and trends in risk behaviors; (b) describe the prevalence of and trends in HIV testing and HIV infection; (c) describe the prevalence of and trends in use of HIV prevention services; and (d) identify met and unmet needs for HIV prevention services in order to inform health departments, community-based organizations, community planning groups and other partners. By describing and monitoring the HIV risk behaviors, HIV seroprevalence and incidence, and HIV prevention experiences of persons at highest risk for HIV infection, NHBS provides an important data source for evaluating progress towards national public health initiatives, such as reducing new infections, increasing the use of condoms, and targeting populations at high risk. The Centers for Disease Control and Prevention (CDC) requests a three-year approval for a Revision of this information collection.

Data are collected through in-person interviews conducted with persons systematically selected from 21 Metropolitan Statistical Areas (MSAs) throughout the United States. These 21 MSAs are chosen based on highest number of HIV infections diagnosed. Persons at risk for HIV infection to be interviewed for NHBS include men who have sex with men (MSM), persons who inject drugs (PWID), and heterosexually active persons at increased risk of HIV infection (HET). A brief screening interview will be used to determine eligibility for participation in the behavioral assessment. The data from the behavioral assessment will provide estimates of: (1) behavior related to the risk of HIV and other sexually transmitted diseases; (2) prior testing for HIV; and (3) use of HIV prevention services.

All persons interviewed will also be offered an HIV test and will participate in a pre-test counseling session. No other federal agency systematically collects this type of information from persons at risk for HIV infection. These data have substantial impact on prevention program development and monitoring at the local, state, and national levels. In each MSA, CDC estimates that NHBS will involve eligibility screening for 125 persons and eligibility screening plus the behavioral assessment with 500 eligible respondents, resulting in a total of 31,500 eligible survey respondents and 7,875 ineligible screened persons during the three-year approval period. Data collection will rotate such that interviews will be conducted among one group per year: MSM in Year 1, PWID in Year 2, and HET in Year 3. The type of data collected for each group will vary slightly due to different sampling methods and risk characteristics of the group.

CDC requests OMB approval for an estimated total of 3,398 annual burden hours. There is no cost to the respondents other than their time to participate.

Estimated Annualized Burden Hours
Type of respondents | Form name | Number of respondents | Number of responses per respondent | Average burden per response (in hours) | Total burden (in hours)
Persons Screened | Eligibility Screener | 13,125 | 1 | 3/60 | 656
Eligible Participants | Behavioral Assessment MSM | 3,500 | 1 | 13/60 | 758
Eligible Participants | Behavioral Assessment PWID | 3,500 | 1 | 17/60 | 992
Eligible Participant | Behavioral Assessment HET | 3,500 | 1 | 15/60 | 875
Peer Recruiters | Recruiter Debriefing | 3,500 | 1 | 2/60 | 117
Total |  |  |  |  | 3,398

Jeffrey M. Zirger,
Lead, Information Collection Review Office, Office of Public Health Ethics and Regulations, Office of Science, Centers for Disease Control and Prevention.

[FR Doc. 2025-20582 Filed 11-20-25; 8:45 am]

BILLING CODE 4163-18-P